DEPARTMENT OF LABOR

Office of Federal Contract Compliance Programs

Proposed Extension of the Approval of Information Collection Requirements; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95). 44 U.S.C. 3506(c)(2)(A). This program helps ensure that requested data is provided in the desired format, that the reporting burden (time and financial resources) is minimized, that the collection instruments are clearly understood, and that the impact of collection requirements on respondents is properly assessed. Currently, the Office of Federal Contract Compliance Programs is soliciting comments on its proposal to extend the Office of Management and Budget (OMB) approval of the Construction Information Collection. You can obtain a copy of the proposed information collection request by contacting the office listed below in the addresses section of this Notice.

DATES: Written comments must be submitted to the Office of Federal Contract Compliance Programs at the addresses listed in section below on or before August 8, 2011.

ADDRESSES: You may submit comments, identified by Control Number 1250-0001, by either one of the following methods:

Electronic comments: Through the Federal eRulemaking portal at http://www.regulations.gov. Follow the instructions for submitting comments.

Mail, Hand Delivery, Courier: Addressed to Debra A. Carr, Director, Division of Policy, Planning and Program Development, Office of Federal Contract Compliance Programs, 200 Constitution Avenue, NW., Room C-3325, Washington, DC 20210. Telephone: (202) 693-0103 (voice) or (202) 693-1337 (TTY).

Instructions: Please submit one copy of your comments by only one method. All submissions must include the agency's name and Control Number identified above for this information collection. Because we continue to experience delays in receiving mail in the Washington, DC area, we strongly encourage commenters to transmit their comments electronically via the regulations.gov Web site or to submit them by mail early. Comments, including any personal information provided, become a matter of public record and will be posted to the regulations.gov Web site. They will also be summarized and/or included in the request for Office of Management and Budget approval of the information collection request.

FOR FURTHER INFORMATION CONTACT: Debra A. Carr, Director, Division of Policy, Planning and Program Development, Office of Federal Contract Compliance Programs, Room C-3325, 200 Constitution Avenue, NW., Washington, DC 20210. Telephone: (202) 693-0103 (voice) or (202) 693-1337 (TTY) (these are not toll-free numbers). Copies of this notice may be obtained in alternative formats (Large Print, Braille, Audio Tape or Disc), upon request, by calling (202) 693-0103 (not a toll-free number). TTY/TDD callers may call (202) 693-1337 (not a toll-free number) to obtain information or request materials in alternative formats.

SUPPLEMENTARY INFORMATION:

I. Background

The Office of Federal Contractor Compliance Programs (OFCCP) administers three nondiscrimination and equal employment opportunity laws:

• Executive Order 11246, as amended (EO 11246);

• Section 503 of the Rehabilitation Act of 1973, as amended, 29 U.S.C. 793 (referred to as Section 503); and

• The Vietnam Era Veterans' Readjustment Assistance Act of 1974, as amended, 38 U.S.C. 4212 (referred to as Section 4212 or VEVRAA).

These authorities prohibit employment discrimination but also require affirmative action to ensure that equal employment opportunities are available regardless of race, sex, color, national origin, religion, or status as an individual with a disability or protected veteran by Federal contractors. For purposes of this clearance, OFCCP is dividing its responsibilities under these authorities into categories: (1) Construction and (2) non-construction (supply and service). This clearance request covers the EO 11246 construction aspects of our program. To view the current construction Information Collection, go to http://www.reginfo.gov/public/do/PRAViewICR?ref_nbr=201003-1250-001. A separate Information Collection Request (ICR), approved by the Office of Management and Budget (OMB) under OMB No. 1250-0003 (formerly 1215-0072), covers the supply and service aspects of these programs.

EO 11246 prohibits Federal contractors from discriminating against applicants and employees on the basis of race, color, religion, sex, or national origin. The EO 11246 applies to Federal contractors and subcontractors and to federally assisted construction contractors and subcontractors holding a Government contract of $10,000 or more, or Government contracts which have, or can reasonably be expected to have, an aggregate total value exceeding $10,000 in a 12-month period. The EO 11246 also applies to government bills of lading, depositories of Federal funds in any amount, and to financial institutions that are issuing and paying agents for U.S. Savings Bonds.

Section 503 prohibits employment discrimination against any employee or applicant for employment because of physical or mental disability and requires affirmative action to ensure that persons are treated without regard to either of these prohibited factors. Section 503 applies to Federal contractors and subcontractors with a contract in excess of $10,000. Because some construction contractors and subcontractors may be subject to the Affirmative Action Program (AAP) requirements of 41 CFR 60-741.40, the associated burden hours have been included in the Information Collection Requirement (ICR).

The affirmative action provisions of Section 4212 prohibit employment discrimination against any protected veteran. For contracts of $25,000 or more entered into or modified prior to December 1, 2003, the affirmative action provisions of Section 4212 prohibit employment discrimination against special disabled veterans, Vietnam era veterans, recently separated veterans, and other protected veterans. For contracts of $100,000 or more entered into or modified after December 1, 2003, the affirmative action provisions of Section 4212 prohibit employment discrimination against disabled veterans, recently separated veterans, Armed Forces Service Medal Veterans, and other protected veterans. Because some construction contractors and subcontractors may be subject to the Affirmative Action Program (AAP) requirements of 41 CFR 60-250.40 and 41 CFR 60-300.40, the associated burden hours have been included in the Information Collection Requirement (ICR).

The ICR addresses recordkeeping and reporting for compliance with EO 11246, Section 503, and Section 4212 for the construction aspects of our program which are subject to the Paperwork Reduction Act of 1995 (PRA).

II. Review Focus

The Department of Labor is particularly interested in comments which:

• Evaluate whether the proposed collection of information is necessary for the compliance and enforcement functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The DOL seeks the approval of the revision of this information in order to carry out its responsibility to enforce the anti-discrimination and affirmative action provisions of the three legal authorities it administers.

Type of Review: Extension.

Agency: Office of Federal Contract Compliance Programs.

Title: Recordkeeping and Reporting Requirements, Construction.

OMB Number: 1250-0001.

Agency Number: None.

Affected Public: Business or other for-profit, Not-for-profit institutions.

Total Respondents: 75,696.

Total Annual Responses: 75,696.

Average Time per Response, Recordkeeping (approximation due to rounding): 17.6 hours.

Average Time per Response, Reporting (approximation due to rounding): 0.01 hours.

Affirmative Action Program, Initial Development: 19,908 hours.

Affirmative Action Program, Annual Update: 74,692 hours.

Total Burden Hours, Recordkeeping and Reporting: 1,331,803.

Frequency: Annually.

Total Burden Cost (capital/startup): $48,378,542.

Total Burden Cost (operating/maintenance): $0.

Comments submitted in response to this notice will be summarized and/or included in the request for Office of Management and Budget approval of the information collection request; they will also become a matter of public record.

Dated: June 1, 2011.
Debra A. Carr,
Director, Division of Policy, Planning and Program Development. Office of Federal Contract Compliance Programs.

[FR Doc. 2011-14051 Filed 6-7-11; 8:45 am]

BILLING CODE 4510-45-P